DEPARTMENT OF THE TREASURY

Office of the Comptroller of the Currency

12 CFR Part 27

[Docket ID OCC-2025-0405]

RIN 1557-AF42

Fair Housing Home Loan Data System

AGENCY: Office of the Comptroller of the Currency, Treasury.

ACTION: Final rule.

SUMMARY: The Office of the Comptroller of the Currency (OCC) is rescinding its Fair Housing Home Loan Data System regulation. The OCC has determined that the regulation is obsolete and largely duplicative of and inconsistent with other legal authorities that require national banks to collect and retain certain information on applications for home loans. Moreover, it imposed asymmetrical data collection requirements on national banks compared to their other depository institution counterparts, and the data collected had limited utility. For these reasons, rescinding the regulation eliminates the regulatory burden for national banks without having a material impact on the availability of data necessary for the OCC to conduct its fair housing-related supervisory activities.

DATES: The final rule is effective April 3, 2026.

FOR FURTHER INFORMATION CONTACT: Elizabeth Small, Counsel, (202) 649-5490, Chief Counsel's Office, Office of the Comptroller of the Currency, 400 7th Street SW, Washington, DC 20219. If you are deaf, hard of hearing, or have a speech disability, please dial 7-1-1 to access telecommunications relay services.

SUPPLEMENTARY INFORMATION:

I. Background

The OCC is rescinding its Fair Housing Home Loan Data System regulation codified at 12 CFR part 27.¹ The OCC issued part 27 in 1979 to provide a basis for a more effective fair housing monitoring program for home loans.² The OCC's issuance of part 27 also assisted with implementation of certain parts of the settlement reached in National Urban League et al., v. Office of the Comptroller of the Currency et al.³ Part 27 established recordkeeping requirements and a data collection system for monitoring national banks and any of their subsidiaries ⁴ (national banks) ⁵ for compliance with the Fair Housing Act ⁶ and the Equal Credit Opportunity Act.⁷ Specifically, part 27 required national banks to (i) engage in quarterly recordkeeping of certain home loan data if the national bank is required to report loans under the Home Mortgage Disclosure Act ⁸ (HMDA reporters) or if the national bank is a non-HMDA reporter that receives 50 or more home loan ⁹ applications a year, as applicable; ¹⁰ (ii) attempt to obtain all of the prescribed information for applications for home loans; ¹¹ (iii) maintain certain additional information in loan files; ¹² and (iv) collect and maintain certain information on a log, if the OCC orders the national bank to maintain a log of inquiries and applications.¹³

¹ 44 FR 63084 (Nov. 2, 1979) as amended at 49 FR 11825 (Mar. 28, 1984), 59 FR 26415 (May 20, 1994), 73 FR 22251 (Apr. 24, 2008).

² 44 FR 63084 (Nov. 2, 1979).

³ See National Urban League, et al. v. Office of the Comptroller of the Currency, et al., 78 FRD. 543, 544 (D.D.C. May 3, 1978); 44 FR 63084 (Nov. 2, 1979). The settlement agreement expressly provides that the terms expired in three years, and do not currently obligate the OCC to maintain part 27. See National Urban League, et al. v. Office of the Comptroller of the Currency, et al., Settlement Agreement at 531, No. 76-0718 (D.D.C. Mar. 23, 1977).

⁴ As originally promulgated, the regulation also applied to banks located in the District of Columbia. The OCC amended part 27 in 2008 to remove banks chartered in Washington, DC from the scope of the regulation since those entities are no longer national banks. See 73 FR 22216, 22232 (Apr. 24, 2008).

⁵ The regulation defines the term “bank” as “a national bank and any subsidiaries of a national bank.” See 12 CFR 27.2(c). However, this SUPPLEMENTARY INFORMATION uses the term “national bank” in place of the defined term “bank” to improve readability and distinguish the relevant data requirements applicable to national banks from those applicable to other types of depository institutions.

⁶ 42 U.S.C. 3601 et seq.

⁷ 15 U.S.C. 1691 et seq.

⁸ 12 U.S.C. 2801 et seq.

⁹ A home loan, as defined in part 27, is “a real estate loan for the purchase, permanent financing for construction, or the refinancing of residential real property which the applicant intends to occupy as a principal residence.” 12 CFR 27.2(f).

¹⁰ 12 CFR 27.3.

¹¹ 12 CFR 27.3.

¹² 12 CFR 27.5.

¹³ 12 CFR 27.4.

When part 27 was promulgated in 1979, the principal purpose of the regulation was to provide for the collection and retention of information necessary to establish a valid statistical analysis of national banks' home lending decisions without placing an undue burden upon the national banks subject to the rule.¹⁴ At the time the rule was promulgated, the OCC stated that it would engage in reviews of the efficiency and effectiveness of the regulatory requirements.¹⁵ Recently, the OCC has undertaken such a review as part of its ongoing efforts to tailor bank supervision and regulation.¹⁶

¹⁴ 44 FR 63084, 63085 (Nov. 2, 1979).

¹⁵ 44 FR 63084, 63085 (Nov. 2, 1979). Specifically, in response to comments that the OCC should include more data collection requirements under part 27, the agency explained its reasoning for limiting the data collection requirements and stated that “the Comptroller will regularly review the efficiency and effectiveness of [the data collection] requirements, as well as the value of statistical analysis through the use of electronic data processing, to determine whether the regulatory scope should be reexamined in the future.” While this statement was made in contemplation of a future review of the regulatory scope of the regulation to determine whether more data should be collected under part 27, the conclusions drawn from the OCC's review of the efficiency and effectiveness of a regulation will depend on the particular facts, which the OCC believes weigh in favor of rescission in this instance.

¹⁶ See Executive Order 14192, 90 FR 9065 (Feb. 6, 2025). The OCC also regularly conducts reviews under the Economic Growth and Regulatory Paperwork Reduction Act of 1996, Public Law 104-208 (1996) (EGRPRA). The OCC received a public comment pursuant to its 2014-17 EGRPRA review suggesting that the OCC could reduce regulatory burden by removing part 27. See Federal Financial Institutions Examination Council Joint Report to Congress, Economic Growth and Regulatory Paperwork Reduction Act, (March 2017) (commenter noting that the regulation has not been updated since 1994, that the regulation is duplicative of the HMDA and Fair Housing Act, and that the regulation is outdated because it refers to the Board's Regulation C and not the CFPB's HMDA rule).

The OCC has determined that part 27 is obsolete because it is largely duplicative of and inconsistent with revisions to other legal authorities that require national banks to collect and retain certain information on applications for home loans. In addition, because part 27 only applied to national banks, national banks had more home loan data collection requirements than other depository institutions. Moreover, the burden the rule imposed on national banks was not justified by the limited utility of data collected under part 27. Also, when part 27 was promulgated, the OCC stated that the regulation's requirements were designed to assist agency examiners in performing full and complete fair housing examinations. However, since then, the OCC has found that agency examiners generally base their fair lending supervisory activities on data collected under other legal authorities that require national banks to collect and maintain information on applications for home loans. The OCC believes that the rescission of part 27, therefore, will not have a material impact on the availability of data necessary for the OCC to conduct its fair housing supervisory activities. For these reasons, as explained in greater detail below, the OCC is rescinding the regulation—thereby eliminating the regulatory burden attributable to part 27 for national banks.

Duplicative Requirements. Part 27 was largely duplicative of the HMDA and its implementing regulation, Regulation C,¹⁷ and Regulation B,¹⁸ which implements the Equal Credit Opportunity Act (ECOA).¹⁹ For example, under part 27, HMDA reporters were required to maintain reasons for denial of a loan application, but HMDA reporters are already required to provide this information pursuant to Regulation C.²⁰ Additionally, many of the categories of information that all national banks were required to collect and maintain under 12 CFR 27.3(b) are already collected and reported by HMDA reporters under Regulation C.²¹

¹⁷ 12 CFR part 1003.

¹⁸ 12 CFR part 1002.

¹⁹ As part of the Dodd-Frank Wall Street Reform and Consumer Protection Act (Dodd-Frank), rulemaking authority pursuant to HMDA and ECOA shifted from the Federal Reserve Board (Board) to the Consumer Financial Protection Bureau (CFPB). Public Law 111-203, 124 Stat. 1376 (July 21, 2010). Dodd-Frank also required the CFPB to amend Regulation C. The CFPB amended Regulation C, and subsequently Regulation B to conform to revised Regulation C. See 80 FR 66128 (Oct. 28, 2015); 82 FR 43088 (Sept. 13, 2017).

²⁰ See 12 CFR 27.3(a)(1)(i); See also 12 CFR 1003.4(a)(16).

²¹ Compare data points required by 12 CFR 27.3(b) with data points required under 12 CFR 1003.4.

Regulatory Inconsistencies. There were several inconsistencies between part 27 and Regulations B and C, particularly concerning the available categories for the collection of ethnicity and race data. These inconsistencies stem from the fact that the OCC has not materially updated part 27 since 1994,²² despite substantive and jurisdictional changes to Regulations B and C in the intervening years. Specifically, Regulations B and C provide two aggregate categories for ethnicity data: Hispanic or Latino; and Not Hispanic or Latino. Regulations B and C also include the following five aggregate categories for race data: American Indian or Alaska Native; Asian; Black or African American; Native Hawaiian or Other Pacific Islander; and White. In contrast, part 27 required the collection of race and national origin under the following six categories: American Indian or Alaskan Native; Asian or Pacific Islander; Black, not of Hispanic origin; White, not of Hispanic origin; Hispanic; Other. Because part 27 did not separate race from ethnicity, its collection and recordkeeping requirements were inconsistent with the requirements of Regulations B and C. Further, part 27 also required less granular information collection than allowed under Regulation C, which allows for more specific categories for ethnicity and race.²³ Specifically, under Regulation C, within the Hispanic or Latino category an applicant may also select among one or more of the following four subcategories: Mexican; Puerto Rican; Cuban; and Other Hispanic or Latino. In addition, within the Asian and the Native Hawaiian or Other Pacific Islander aggregate categories an applicant may select one or more of seven and four subcategories, respectively. The Asian race subcategories are: Asian Indian; Chinese; Filipino; Japanese; Korean; Vietnamese; and Other Asian. The Native Hawaiian or Other Pacific Islander race subcategories are: Native Hawaiian; Guamanian or Chamorro; Samoan; and Other Pacific Islander. Under Regulation B, a national bank that is a non-HMDA reporter may generally collect ethnicity and race data using either the aggregate race and ethnicity categories described in Regulations B or using the more detailed subcategories set forth in Regulation C.²⁴ Therefore, the requirement in part 27 to collect aggregate data was inconsistent with the requirements imposed by Regulations B and C.

²² In 2008, the OCC amended part 27 to remove banks chartered in Washington, DC from the scope of the regulation since those entities are no longer national banks. See 73 FR 22216, 22232 (Apr. 24, 2008).

²³ Compare for example, the data collection requirements under 12 CFR 27.3(b)(1) with the data collection requirements under Regulation C (12 CFR 1003.4).

²⁴ See 12 CFR 1002.13(a)(1)(i).

Asymmetric Data Requirements. Despite the duplication and inconsistencies with Regulations B and C, part 27 required national banks to collect and maintain certain unique data. However, not all depository institutions were required to collect this information. With respect to OCC-regulated institutions, part 27 did not apply to Federal savings associations, nor is there a comparable regulation applicable to Federal savings associations. In addition, the other Federal prudential regulators—the Board and the Federal Deposit Insurance Corporation (FDIC)—do not have regulations that require the separate collection of home loan data from their supervised institutions and rely largely on the data collected pursuant to Regulations B and C to conduct fair lending analyses. Therefore, because part 27 only applied to national banks, national banks had more home loan data collection requirements than other depository institutions.

Limited Utility. The OCC considered whether, notwithstanding the issues discussed above, the unique data collection and maintenance requirements of part 27 offered a sufficient countervailing benefit when compared to the regulatory burden imposed on national banks by the regulation. After considering how the OCC uses home loan data in its supervisory activities, the OCC believes that any burden imposed on national banks is not justified by the limited utility of data collection under part 27. Specifically, the OCC largely utilizes information collected pursuant to the HMDA and ECOA to conduct its supervisory activities. The OCC only considered part 27 data in limited circumstances where the data requirements did not overlap. Further, as noted above, part 27 data was most useful in helping to assess fair lending risk, and any resulting fair lending examinations would have required the OCC to engage in sampling to obtain necessary home loan data.

Specifically, with regard to the subset of national banks that are non-HMDA reporters and originate more than 50 loans annually, the OCC may obtain the information that part 27 required these national banks to collect pursuant to the agency's general supervisory authority and its supervisory authority under the Fair Housing Act and ECOA.²⁵ Therefore, national banks' collection and maintenance of home loan data under part 27 had limited utility for the OCC when considering the related burden on national banks. Moreover, while the removal of part 27 will reduce regulatory burden for all national banks, the main benefactors of this burden reduction will be non-HMDA reporters that originate more than 50 loans annually, which are typically smaller national banks. This is because HMDA-reporters will continue to collect and maintain required home loan data in accordance with Regulations B and C.

²⁵ 12 U.S.C. 481; 12 CFR part 4.

Part 27 data also had limited utility for external stakeholders. Specifically, the part 27 data requirements were collection and maintenance requirements. Unlike the HMDA data, part 27 data was not publicly available. Therefore, removal of part 27 will not result in a reduction in the data available for external stakeholders' home loan data analysis.

Alternatives Considered. The OCC considered, as an alternative, revising part 27 to bring it into conformity with Regulations B and C. However, the OCC believes rescission is the better approach because, even if the OCC updated the regulation to conform with Regulations B and C, part 27 would still be largely duplicative of those other regulations and the utility of the non-duplicative data does not outweigh the regulatory burden on national banks to collect and maintain that data.

Proposal and Comments. Consistent with these reasons, the OCC proposed rescinding part 27.²⁶ The OCC received six substantive comments on its proposal. Most comments generally opposed the rescission of part 27, expressing concern that rescinding its data collection requirements would negatively affect the OCC's ability to identify and prevent lending discrimination. Two comments also stated that the proposal did not comply with the Administrative Procedures Act because it would diminish fair lending enforcement without a reasoned explanation. One comment also critiqued several elements of the proposal's regulatory impact analysis.

²⁶ 90 FR 51583 (Nov. 18, 2025).

As noted in the proposal, the data collected pursuant to part 27 was largely duplicative of the information collection requirements under Regulation C and Regulation B. Furthermore, the OCC's fair lending supervision relies almost exclusively on information collected pursuant to Regulation C and Regulation B. The rescission of part 27, therefore, will not have a material impact on the availability of data necessary for the OCC to conduct its fair housing supervisory activities. Further, rescinding part 27 enhances regulatory consistency by applying the same information collection requirements to national banks. The OCC is finalizing the rescission of part 27 as proposed.

II. Regulatory Analysis

Paperwork Reduction Act

Under the Paperwork Reduction Act of 1995 (PRA),²⁷ the OCC may not conduct or sponsor, and a respondent is not required to respond to, an information collection unless it displays a currently valid Office of Management and Budget (OMB) control number. The OCC has reviewed this rulemaking and determined that it will not create any new or revise any existing, collections of information under the PRA and therefore, require no PRA filings, other than a discontinuance request to OMB for the currently approved “Fair Housing Home Loan Data System Regulation (1557-0159)” information collection.

²⁷ 44 U.S.C. 3501-3521.

Title of Information Collection: Fair Housing Home Loan Data System Regulation.

OMB Control Number: 1557-0159.

Affected Public: Businesses or other for-profit.

Description: Under the current 12 CFR part 27 certain national banks are required to record certain home loan data home loan data if they: (1) are otherwise required to maintain and report data pursuant to Regulation C,²⁸ which implements HMDA,²⁹ in which case they are HMDA reporters or (2) receive more than 50 home loan applications annually. Specifically, national banks that are HMDA reporters meet the part 27 requirement by recording HMDA data along with the reasons for denying any loan application on the HMDA Loan Application/Register (LAR).³⁰ A national bank that is not a HMDA reporter but that receives more than 50 home loan applications annually must comply with part 27 by either: (1) recording and reporting HMDA data and denial reasons on the LAR as if they were a HMDA reporter ³¹ or (2) recording and maintaining part 27-specified activity data relating to aggregate numbers of certain types of loans by geography and action taken.³² Part 27 also requires that all national banks, including those not subject to the recording requirements, to maintain certain application and loan information in loan files. Part 27 further provides that the OCC may require national banks to maintain and submit additional information if there is reason to believe that the bank engaged in discrimination.

²⁸ 12 CFR part 1003.

²⁹ 12 U.S.C. 2801 et seq.

³⁰ 12 CFR 27.3(a)(1)(i).

³¹ 12 CFR 27.3(a)(5).

³² 12 CFR 27.3(a)(2).

Current Burden

Number of Respondents: 702.

Total Annual Burden: 12,632 hours.

The OCC received one comment criticizing the proposal's PRA analysis and lack of PRA materials. However, because the final rule eliminates information collection requirements, no PRA filings are required, other than the discontinuance request to OMB discussed above. Accordingly, the OCC did not make any changes to its PRA analysis based on the comments it received.

Regulatory Flexibility Act Analysis

The Regulatory Flexibility Act (RFA), 5 U.S.C. 601 et seq., requires an agency, in connection with a final rule, to prepare and make public a Regulatory Flexibility Analysis describing the impact of the rule on small entities (defined by the Small Business Administration (SBA) for purposes of the RFA to include commercial banks and savings institutions with total assets of $850 million or less and trust companies with total assets of $47 million or less) or to certify that the rule will not have a significant economic impact on a substantial number of small entities. The OCC currently supervises approximately 609 small entities ³³ of which 218 will be impacted by the final rule. Although the final rule will apply to the 399 small national banks that make at least 50 home loans per year,³⁴ only 218 small national banks will be impacted because only institutions that are not required to report under HMDA needed to collect any additional information under part 27. The OCC estimates the yearly savings for non-HMDA reporters from not calculating the statistics required by part 27 to be up to $6,798 per institution.

³³ The OCC bases its estimate of the number of small entities on the Small Business Administration's size thresholds, which are $850 million or less in total assets for commercial banks and savings institutions, and $47 million, or less in total assets for trust companies. Consistent with the General Principles of Affiliation in 13 CFR 121.103(a), the OCC counts the assets of affiliated financial institutions when determining whether to classify an OCC-supervised institution as a small entity. The OCC uses December 31, 2024, to determine size because a “financial institution's assets are determined by averaging the assets reported on its four quarterly financial statements for the preceding year.” See footnote 8 of the U.S. Small Business Administration's Table of Size Standards.

³⁴ As noted above, part 27 only applied to national banks not Federal savings associations.

In general, the OCC considers 5 percent or more of OCC-supervised small entities to be a substantial number. At present, 31 OCC-supervised small entities constitute a substantial number. However, the OCC classifies the economic impact on an individual small entity as significant if the total estimated impact in one year is greater than 5 percent of the small entity's total annual salaries and benefits or greater than 2.5 percent of the small entity's total non-interest expense. Therefore, although the final rule will affect a substantial number of small entities, it will not have a significant economic impact on those small entities in any given year. Accordingly, a Regulatory Flexibility Analysis is not required, and the OCC certifies that the final rule will not have a significant economic impact on a substantial number of small entities.

The OCC received one comment criticizing the proposal's lack of detailed RFA analysis of the costs to small entities associated with the proposal. However, because the final rule eliminates information collection requirements, it eliminates the costs associated with those requirements and does not impose any additional costs or burdens on small entities. Accordingly, the OCC did not make any changes to its RFA analysis based on the comments it received.

Unfunded Mandates Reform Act of 1995

The OCC analyzed the final rule under the factors set forth in the Unfunded Mandates Reform Act of 1995 (UMRA) (2 U.S.C. 1532). Under this analysis, the OCC considered whether the final rule includes a Federal mandate that may result in the expenditure by State, local, and Tribal governments, in the aggregate, or by the private sector, of $100 million or more in any one year ($187 million as adjusted annually for inflation). Pursuant to section 202 of the UMRA,³⁵ if a final rule meets this UMRA threshold the OCC would need to prepare a written statement that includes, among other things, a cost-benefit analysis of the final rule.

³⁵ 2 U.S.C. 1532.

Because the final rule rescinds existing regulations and does not contain any new mandates, the OCC's estimated UMRA cost is zero. Therefore, the OCC finds that this final rule does not trigger the UMRA cost threshold. Accordingly, the OCC has not prepared the written statement described in section 202 of UMRA.

The OCC received one comment criticizing the proposal's lack of an UMRA written statement. However, the final rule does not impose any mandates that will result in any expenditures by State, local, and tribal governments. Accordingly, the OCC did not make any changes to its UMRA analysis based on the comments it received.

Administrative Procedure Act

The Administrative Procedure Act (APA) requires that, with certain exceptions, a substantive rule must be published not less than 30 days before its effective date.³⁶ The April 3, 2026 effective date of this final rule meets the APA effective date requirement, as it will take effect at least 30 days after its publication date of March 4, 2026.

³⁶ 5 U.S.C. 553(d).

Riegle Community Development and Regulatory Improvement Act of 1994

Pursuant to section 302(a) of the Riegle Community Development and Regulatory Improvement Act (RCDRIA) of 1994 ³⁷ in determining the effective date and administrative compliance requirements for new regulations that impose additional reporting, disclosure, or other requirements on insured depository institutions, the OCC must consider, consistent with principles of safety and soundness and the public interest (1) any administrative burdens that the final rule would place on depository institutions, including small depository institutions and customers of depository institutions, and (2) the benefits of the final rule. In addition, section 302(b) of RCDRIA requires new regulations and amendments to regulations that impose additional reporting, disclosures, or other new requirements on insured depository institutions generally to take effect on the first day of a calendar quarter that begins on or after the date on which the regulations are published in final form.³⁸ This final rule does not impose additional reporting, disclosure, or other requirements on an insured depository institution. Therefore, section 302 of the Riegle Community Development and Regulatory Improvement Act of 1994 does not apply to this final rule.

³⁷ 12 U.S.C. 4802(a).

³⁸ 12 U.S.C. 4802(b).

The OCC received one comment suggesting that the OCC stay enforcement of this provision for at least 12 months.³⁹ However, this final rule removes data collection and recordkeeping requirements and does not have any enforcement provisions.

³⁹ This comment also suggested the OCC's proposal had several other deficiencies including its invocation of the “good cause” exception under 5 U.S.C. 553(b)(B) or 553(d)(3) and the lack of a Systems of Records Notice (SORN) or a Privacy Impact Assessment (PIA). The OCC's proposal did not propose additional data collection requirements, so a SORN or PIA are not required. Further the proposal did not invoke the “good cause” exception under the APA.

Executive Orders 12866 and 14192

Executive Order 12866, as amended, provides that the Office of Information and Regulatory Affairs (OIRA) within the Office of Management and Budget (OMB) will review all “significant regulatory actions” as defined therein. OIRA has determined that this final rule is not a “significant regulatory action” for purposes of Executive Order 12866, as amended. Executive Order 14192, titled “Unleashing Prosperity Through Deregulation,” separately requires that an agency, unless prohibited by law, identify at least ten existing regulations to be repealed when the agency publicly proposes for notice and comment or otherwise promulgates a new regulation with total costs greater than zero. Executive Order 14192 further requires that new incremental costs associated with new regulations shall, to the extent permitted by law, be offset by the elimination of existing costs associated with at least ten prior regulations. The OCC has determined that the final rule will be a deregulatory action under Executive Order 14192 because it will result in costs savings for affected OCC-supervised institutions.

Congressional Review Act

Before a rule can take effect, the Congressional Review Act (CRA), 5 U.S.C. 801 et seq., provides that the OCC must submit to Congress and to the Comptroller General the rule along with a report indicating whether it is a “major rule.” In general, if a rule is a “major rule,” the CRA provides that unless Congress enacts a joint resolution of disapproval the rule takes effect the later of: (1) 60 days after Congress receives the required report or publication of the rule in the Federal Register, whichever is later; or (2) the date the rule would otherwise take effect.⁴⁰ The CRA defines a “major rule” as any rule that the Administrator of the Office of Information and Regulatory Affairs (OIRA) of the Office of Management and Budget finds has resulted in or is likely to result in (1) an annual effect on the economy of $100,000,000 or more; (2) a major increase in costs or prices for consumers, individual industries, Federal, State, or local government agencies or geographic regions, or (3) a significant adverse effect on competition, employment, investment, productivity, innovation, or the ability of United States-based enterprises to compete with foreign-based enterprises in domestic and export markets.⁴¹ OIRA has determined that this final rule is not a major rule. As required by the CRA, the OCC will submit the final rule and other appropriate reports to Congress and the Government Accountability Office for review.

⁴⁰ 5 U.S.C. 801(a)(3).

⁴¹ 5 U.S.C. 804(2).

List of Subjects in 12 CFR Part 27

Civil rights, Credit, Fair housing, Mortgages, National banks, Reporting and recordkeeping requirements.

PART 27—[REMOVED AND RESERVED]

For the reasons stated in the preamble, under the authority of 12 U.S.C. 93a, the OCC removes and reserves 12 CFR part 27.

Jonathan V. Gould,
Comptroller of the Currency.

[FR Doc. 2026-04276 Filed 3-3-26; 8:45 am]

BILLING CODE 4810-33-P